DEPARTMENT OF LABOR

Employment and Training Administration

[TA-W-56,842]

KUS, Inc., a/k/a Karl Schmidt Unisia, Inc.; Fort Wayne, IN; Dismissal of Application for Reconsideration

Pursuant to 29 CFR 90.18(C) an application for administrative reconsideration was filed with the Director of the Division of Trade Adjustment Assistance for workers at KUS, Inc., a/k/a Karl Schmidt Unisia, Inc., Fort Wayne, Indiana. The application contained no new substantial information which would bear importantly on the Department's determination. Therefore, dismissal of the application was issued.

TA-W-56,842; KUS, Inc., a/k/a Karl Schmidt Unisia, Inc., Fort Wayne, Indiana (June 7, 2005).

Signed at Washington, DC, this 8th day of June 2005.
Timothy Sullivan,
Director, Division of Trade Adjustment Assistance.

[FR Doc. E5-3167 Filed 6-17-05; 8:45 am]

BILLING CODE 4510-30-P